DEPARTMENT OF THE INTERIOR

Minerals Management Service

Environmental Documents Prepared for Proposed Oil and Gas Operations on the Gulf of Mexico Outer Continental Shelf (OCS)

AGENCY: Minerals Management Service, Interior.

ACTION: Notice of the Availability of Environmental Documents. Prepared for OCS Mineral Proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/operator | Location | Date
Maritech Resources, Inc., Structure Removal SEA ES/SR 06-028 | West Cameron, Block 515, Lease OCS-G 15102, located 92 miles from the nearest Louisiana shoreline | 4/6/2006.
Walter Oil & Gas Corporation, Structure Removal SEA ES/SR 06-015, 92-043A, 93-058A | West Delta, Block 35, Lease OCS-G 13641, located 11 miles from the nearest Louisiana shoreline | 4/10/2006.
Maritech Resources, Inc., Structure Removal SEA ES/SR 06-033 | Eugene Island, Block 365, Lease OCS-G 13628, located 76 miles from the nearest Louisiana shoreline | 4/12/2006.
Maritech Resources, Inc., Structure Removal SEA ES/SR 06-034 | East Cameron, Block 195, Lease OCS-G 00958, located 55 miles from the nearest Louisiana shoreline | 4/19/2006.
Newfield Exploration Company, Structure Removal SEA ES/SR 06-037 | South Marsh Island, Block 49, Lease OCS-00787, located 45 miles from the nearest Louisiana shoreline | 4/26/2006.
Sterling Energy, Inc., Structure Removal SEA ES/SR 06-038 | High Island, Block A-68, Lease OCS-G 07298, located 44 miles from the nearest Texas shoreline | 4/27/2006.
Maritech Resources, Inc., Structure Removal SEA ES/SR 06-032, 035 | High Island, Blocks A-317 & A-325, Leases OCS-G 02412 & 02416, located 100 miles from the nearest Texas shoreline and 97 miles from the nearest Texas shoreline | 4/27/2006.
Walter Oil & Gas Corporation, Structure Removal SEA ES/SR 06-036 | East Cameron, Block 154, Lease OCS-G 16240, located 39 miles from the nearest Louisiana shoreline | 5/3/2006.
Devon Louisiana Corporation, Structure Removal SEA ES/SR 06-040, 041, 042, 043, 044 | Eugene Island, Block 51, Lease OCS-G 00078, located 8 miles from the nearest Louisiana shoreline | 5/5/2006.
Marlin Energy Offshore, LLC, Structure Removal SEA ES/SR 06-045 | South Timbalier, Block 21, Lease OCS-00263, located 4 miles from the nearest Louisiana shoreline | 5/8/2006.
Energy Resource Technology, Inc., Structure Removal SEA ES/SR 06-046 | East Cameron, Block 222, Lease OCS-G 02037, located 65 miles from the nearest Louisiana shoreline | 5/12/2006.
Newfield Exploration Company, Structure Removal SEA ES/SR 06-013A | East Cameron, Block 151, Lease OCS-G 05372, located 50 miles from the nearest Louisiana shoreline | 5/16/2006.
Mariner Energy, Inc., Structure Removal SEA ES/SR 06-048 | South Marsh Island, Block 66, Lease OCS-G 01198, located 57 miles from the nearest Louisiana shoreline | 5/26/2006.
Callon Petroleum Operating Company, Structure Removal SEA ES/SR 06-053, 054, 055, 056, 057, 058, 059 | Chandeleur, Block 41, Lease OCS-G 05746; Main Pass, Blocks 159, 160, 163, Leases OCS-G 06813, 05245, 07809; located 22 miles from the nearest Louisiana shoreline | 5/30/2006.
Callon Petroleum Operating Company, Structure Removal SEA ES/SR 06-060 | Mobile, Block 952, Lease OCS-G 05755, located 10 miles from the nearest Alabama Shoreline | 5/30/2006.
CGG Americas, Inc., Geological & Geophysical Exploration for Mineral Resources Application SEA L06-30 | Located in the central Gulf of Mexico south of Cocodrie, Louisiana | 6/1/2006.
WesternGeco, Geological & Geophysical Exploration for Mineral Resources Application SEA L06-28 | Located in the central Gulf of Mexico south of Pascagoula, Mississippi | 6/2/2006.
CGG Americas, Inc., Geological & Geophysical Exploration for Mineral Resources Application SEA L06-26 | Located in the central Gulf of Mexico south of Cocodrie, Louisiana | 6/2/2006.
Global GeoServices, Geological & Geophysical Exploration for Mineral Resources Application SEA T06-12 | Located in the western Gulf of Mexico south of Port O'Conner, Texas | 6/2/2006.
Maritech Resources, Inc., Structure Removal SEA ES/SR 06-051 | Ship Shoal, Block 331, OCS-G 13631, located 62 miles from the nearest Louisiana Shoreline | 6/2/2006.
Noble Energy, Inc., Structure Removal SEA ES/SR 06-050 | West Cameron (South), Block 600, Lease OCS-G 12807, located 98 miles from the nearest Louisiana shoreline | 6/2/2006.
Global GeoServices, Geological & Geophysical Exploration for Mineral Resources Application SEA L06-31 | Located in the central Gulf of Mexico south of Cocodrie, Louisiana | 6/6/2006.
BP America Production Company, Structure Removal SEA ES/SR 06-065 | Grand Isle, Block 32, OCS-G 00174, located 16 miles from the nearest Louisiana shoreline | 6/7/2006.
Chevron U.S.A., Inc., Structure Removal SEA ES/SR 06-061, 062, 063 | South Marsh, Blocks 217 & 218, Lease OCS-G 00310, located 8 miles from the nearest Louisiana shoreline | 6/7/2006.
WesternGeco, Geological & Geophysical Exploration for Mineral Resources Application SEA T06-11 | Located in the western Gulf of Mexico south of Intracoastal City, Louisiana | 6/8/2006.
Transcontinental Gas Pipe Line Company, Structure Removal SEA ES/SR 05-120 | South Marsh Island, Block 66, Lease OCS-G 01198, located 55 miles from the nearest Louisiana shoreline | 6/12/2006.
BP America Production Company, Structure Removal SEA ES/SR 06-064 | West Cameron, Block 71, Lease OCS 00244, located 11 miles from the nearest Louisiana shoreline | 6/12/2006.
Mariner Energy Resources, Inc., Structure Removal SEA ES/SR 06-020 | South Marsh Island, Block 66, Lease OCS-G 01198, located 64 miles from the nearest Louisiana shoreline | 6/15/2006.
Energy Partners, Ltd., Structure Removal SEA ES/SR 06-052 | West Cameron, Block 210, Lease OCS-G 23752, located 41 miles from the nearest Louisiana shoreline | 6/15/2006.
Chevron U.S.A., Inc., Structure Removal SEA ES/SR 06-071 | Vermilion, Block 31, Lease OCS-G 02868, located 8 miles from the nearest Louisiana Shoreline | 6/19/2006.
Hunt Petroleum (AEC), Inc., Structure Removal SEA ES/SR 06-066 | East Cameron, Block 76, Lease OCS-G 17840, located 21 miles from the nearest Louisiana shoreline | 6/20/2006.
BP Exploration & Production, Inc., Geological & Geophysical Exploration for Mineral Resources Application SEA L06-34 | Located in the central Gulf of Mexico south of Cocodrie, Louisiana | 6/20/2006.
CGG Americas, Inc., Geological & Geophysical Exploration for Mineral Resources Application SEA L06-33 | Located in the central Gulf of Mexico south of Morgan City, Louisiana | 6/20/2006.
Hunt Petroleum (AEC), Inc., Structure Removal SEA ES/SR 06-068 | West Cameron, Block 101, Lease OCS-G 16115, located 12 miles from the nearest Louisiana shoreline | 6/22/2006.
Hunt Petroleum (AEC), Inc., Structure Removal SEA ES/SR 06-067 | Eugene Island, Block 50, Lease OCS-G 17960, located 10 miles from the nearest Louisiana shoreline | 6/23/2006.

Persons interested in reviewing environmental documents for the proposals listed above or obtaining information about SEAs and FONSIs prepared for activities on the Gulf of Mexico OCS are encouraged to contact MMS at the address or telephone listed in the FOR FURTHER INFORMATION CONTACT section.

Dated: July 17, 2006.
Chris C. Oynes,
Regional Director, Gulf of Mexico OCS Region.

[FR Doc. E6-13210 Filed 8-11-06; 8:45 am]

BILLING CODE 4310-MR-P